NEIGHBORHOOD REINVESTMENT CORPORATION

Sunshine Act Meetings; Audit Committee Meeting

TIME & DATE: 11:00 a.m., Tuesday, December 11, 2018.

PLACE: NeighborWorks America—Gramlich Boardroom, 999 North Capitol Street NE, Washington DC 20002.

STATUS: Open (with the exception of Executive Session).

Consistent with the requirements of 5 U.S.C. 552 (b)(e), NeighborWorks America has submitted for publication in the Federal Register this notice of the Audit Committee Meeting that occurred on Tuesday, December 11, 2018. The Audit Committee determined by a recorded vote that business required that such meeting be called at such date, and made public announcement of the time, place, and subject matter of such meeting at the earliest practicable time.

MATTERS TO BE CONSIDERED:

The General Counsel of the Corporation has certified that in his opinion, one or more of the exemptions set forth in 5 U.S.C. 552 (b)(2) and (4) permit closure of the following portion(s) of this meeting:

• Internal Audit Report

Agenda

I. Call to Order

II. Ratification of Appointment of the Audit Committee

III. Approval of Business Requiring Meeting on December 11

IV. Executive Session With the Chief Audit Executive

V. FY19 Internal Audit Work Plan, Including Request To Defer WeConnect Applications Interface From FY18

VI. External Audit Reports

V. Adjournment

CONTACT PERSON FOR MORE INFORMATION: Rutledge Simmons, EVP & General Counsel/Secretary, (202) 760-4105; Rsimmons@nw.org.

Rutledge Simmons,
EVP & General Counsel/Corporate Secretary.

[FR Doc. 2018-27442 Filed 12-14-18; 4:15 pm]

BILLING CODE 7570-02-P